DEPARTMENT OF LABOR

Mine Safety and Health Administration

30 CFR Parts 71 and 75

RIN 1219—AA98 (Phase 9)

Standards for Sanitary Toilets in Coal Mines

Correction

In rule document 03-15813 beginning on page 37082 in the issue of Monday, June 23, 2003, make the following corrections:

1. On page 37084, in the third column, under the heading “C. Types of Approved Sanitary Toilets”, in the sixth line, “standard¹” should read, “standard.”

2. On the same page, in the table, the heading, “Combustion or Incinerating Toilet,” should read, “Combustion or Incinerating Toilet¹.”

[FR Doc. C3-15813 Filed 6-26-03; 8:45 am]

BILLING CODE 1505-01-D

DEPARTMENT OF TRANSPORTATION

Federal Aviation Administration

14 CFR Part 71

[Docket No. FAA-2003-15257; Airspace Docket No. 03-ACE-50]

Modification of Class E Airspace; Cambridge, NE

Correction

In rule document 03-15682 beginning on page 36909 in the issue of Friday, June 20, 2003, make the following correction:

§71.1 [Corrected]

On page 36910, in the second column, in § 71.1, under ACE NE E5 Cambridge, NE, in the fourth line, “Lat. 40°18′25″ N.,” should read, “Lat. 40°18′15″ N.,”

[FR Doc. C3-15682 Filed 6-26-03; 8:45 am]

BILLING CODE 1505-01-D

DEPARTMENT OF THE TREASURY

Office of the Comptroller of the Currency

12 CFR Part 5

[Docket No. 03-06]

RIN 1557-AC13

Electronic Filings

Correction

Rule document 03-8995, beginning on page 17890 in the issue of Monday April 14, 2003, was inadvertently published in the Proposed Rules section. It should have appeared in the Rules and Regulations section.

[FR Doc. C3-8995 Filed 6-26-03; 8:45 am]

BILLING CODE 1505-01-D

DEPARTMENT OF VETERANS AFFAIRS

38 CFR Part 4

RIN 2900-AE91

Schedule for Rating Disabilities; the Musculoskeletal System

Correction

In proposed rule document 03-2119 beginning on page 6998 in the issue of Tuesday, February 11, 2003, make the following correction:

§4.71a [Corrected]

On page 7028, in §4.71a, the table entitled Multiple Finger Amputations is corrected to read as set forth below.

Multiple Finger Amputations
Note (1): These ratings apply only to amputations at the proximal interphalangeal joints or through proximal phalanges.
Note (2): Amputation through middle phalanges will be rated as unfavorable ankylosis of the fingers.
Note (3): Except for negligible losses, amputations at distal joints or through distal phalanges will be rated as favorable ankylosis of the fingers.
Note (4): Amputation or resection of more than one-half the metacarpal bones in injuries of multiple fingers will be assigned an evaluation of 10 percent added to (not combined with) the evaluations for multiple finger amputations, subject to the provisions of § 4.68.
Note (5): Combinations of finger amputations at various levels, or finger amputations with ankylosis or limitation of motion of the fingers will be rated on the basis of the grade of disability, i.e., amputation, unfavorable ankylosis, most representative of the levels or combinations. With an even number of fingers involved, and adjacent grades of disability, select the higher of the two grades.
5126 Amputation of five fingers of one hand | ¹ 70 | ¹ 60
Amputation of four fingers of one hand:
5127 Thumb, index and ring | ¹ 70 | ¹ 60
5128 Thumb, index and ring | ¹ 70 | ¹ 60
5129 Thumb, index and ring | ¹ 70 | ¹ 60
5130 Thumb, index and ring | ¹ 70 | ¹ 60
5131 Thumb, index and ring | 60 | 50
5132 Thumb, index and ring | 60 | 50
5133 Thumb, index and ring | 60 | 50
5134 Thumb, index and little | 60 | 50
5135 Thumb, long and ring | 60 | 50
5136 Thumb, long and little | 60 | 50
5137 Thumb, ring and little | 60 | 50
5138 Index, long and ring | 50 | 40
5139 Index, long and little | 50 | 40
5140 Index, ring and little | 50 | 40
5141 Long, ring and little | 40 | 30
Amputation of two fingers of one hand:
5142 Thumb and index | 50 | 40
5143 Thumb and long | 50 | 40
5144 Thumb and ring | 50 | 40
5145 Thumb and little | 50 | 40
5146 Index and long | 40 | 30
5147 Index and ring | 40 | 30
5148 Index and little | 40 | 30
5149 Long and ring | 30 | 20
5150 Long and little | 30 | 20
5151 Ring and little | 30 | 20

[FR Doc. C3-2119 Filed 6-26-03; 8:45 am]

BILLING CODE 1505-01-D